DEPARTMENT OF COMMERCE

National Oceanic and Atmospheric Administration

50 CFR Part 660

[Docket No. 200505-0127]

RIN 0648-BJ48

Fisheries Off West Coast States; West Coast Salmon Fisheries; 2020 Management Measures

AGENCY: National Marine Fisheries Service (NMFS), National Oceanic and Atmospheric Administration (NOAA), Commerce.

ACTION: Final rule.

SUMMARY: Through this final rule, NMFS establishes fishery management measures for the 2020 ocean salmon fisheries off Washington, Oregon, and California and the 2021 salmon seasons opening earlier than the effective date of the 2021 rule, which is expected to be no later than May 16, 2021, under authority of the Magnuson-Stevens Fishery Conservation and Management Act (MSA). Specific fishery management measures vary by fishery and by area, and establish fishing areas, seasons, quotas, legal gear, recreational fishing days and catch limits, possession and landing restrictions, and minimum lengths for salmon taken in the U.S. exclusive economic zone (EEZ) (3-200 nautical miles (nmi)) off Washington, Oregon, and California. The management measures are intended to prevent overfishing and to apportion the ocean harvest equitably among treaty Indian, non-treaty commercial, and recreational fisheries. The measures are also intended to allow a portion of the salmon runs to escape the ocean fisheries in order to provide for spawning escapement and to provide fishing opportunity for inside fisheries (fisheries occurring in state internal waters).

DATES: This final rule is effective from 0001 hours Pacific Daylight Time, May 6, 2020, until the effective date of the 2021 management measures, as published in the Federal Register.

ADDRESSES: The documents cited in this document are available on the Pacific Fishery Management Council's (Council's) website (www.pcouncil.org).

FOR FURTHER INFORMATION CONTACT: Peggy Mundy at 206-526-4323.

SUPPLEMENTARY INFORMATION:

Background

The ocean salmon fisheries in the EEZ off Washington, Oregon, and California are managed under a “framework” Fishery Management Plan (FMP). Regulations at 50 CFR part 660, subpart H, provide the mechanism for making preseason and inseason adjustments to the management measures, within limits set by the FMP, by notification in the Federal Register. 50 CFR 660.408 governs the establishment of annual management measures.

The management measures for the 2020 and early 2021 ocean salmon fisheries that are implemented in this final rule were recommended by the Council at its April 4 to 10, 2020, meeting.

Process Used To Establish 2020 Management Measures

The Council announced its annual preseason management process for the 2020 ocean salmon fisheries in the Federal Register on December 26, 2019 (84 FR 70954), and on the Council's website at www.pcouncil.org. NMFS published an additional notice of opportunities to submit public comments on the 2020 ocean salmon fisheries in the Federal Register on February 12, 2020 (85 FR 7977). These notices announced the availability of Council documents, the dates and locations of Council meetings and public hearings comprising the Council's complete schedule of events for determining the annual proposed and final modifications to ocean salmon fishery management measures, and instructions on how to comment on the development of the 2019 ocean salmon fisheries. The agendas for the March and April Council meetings were published in the Federal Register (85 FR 7922, February 12, 2020, and 85 FR 15433, March 18, 2020, respectively) and posted on the Council's website prior to the actual meetings.

In accordance with the FMP, the Council's Salmon Technical Team (STT) and staff economist prepared four reports for the Council, its advisors, and the public. All four reports were made available on the Council's website upon their completion. The first of the reports, “Review of 2019 Ocean Salmon Fisheries,” was prepared in February when the first increment of scientific information necessary for crafting management measures for the 2020 and early 2021 ocean salmon fisheries became available. The first report summarizes biological and socio-economic data for the 2019 ocean salmon fisheries and assesses the performance of the fisheries with respect to the Council's 2019 management objectives as well as providing historical information for comparison. The second report, “Preseason Report I Stock Abundance Analysis and Environmental Assessment Part 1 for 2020 Ocean Salmon Fishery Regulations” (PRE I), provides the 2020 salmon stock abundance projections and analyzes the impacts on the stocks and Council management goals if the 2019 regulations and regulatory procedures were applied to the projected 2020 stock abundances. The completion of PRE I is the initial step in developing and evaluating the full suite of preseason alternatives.

Following completion of the first two reports, the Council met in Rohnert Park, CA, from March 3 to 9, 2020, to develop 2020 management alternatives for proposal to the public. The Council proposed three alternatives for commercial and recreational fisheries management, and six alternatives for treaty Indian fisheries management for analysis and public comment. These alternatives consisted of various combinations of management measures designed to ensure that stocks of coho and Chinook salmon meet conservation goals, and to provide for ocean harvests of more abundant stocks. After the March Council meeting, the Council's STT and staff economist prepared a third report, “Preseason Report II Proposed Alternatives and Environmental Assessment Part 2 for 2020 Ocean Salmon Fishery Regulations” (PRE II), which analyzes the effects of the proposed 2020 management alternatives.

The Council sponsored public hearings via webinar to receive testimony on the proposed alternatives on March 23, 2020, for Washington and Oregon, and on March 24, 2020, for California. The States of Washington, Oregon, and California sponsored meetings in various forums that also collected public testimony, which was then presented to the Council by each state's Council representative. The Council also received public testimony at both the March and April meetings and received written comments at the Council office and electronic submissions via the Council's electronic portal.

The Council met from April 4 to 10, 2020, via webinar, to adopt its final 2020 salmon management recommendations. Following the April Council meeting, the Council's STT and staff economist prepared a fourth report, “Preseason Report III Analysis of Council-Adopted Management Measures for 2020 Ocean Salmon Fisheries” (PRE III), which analyzes the environmental and socio-economic effects of the Council's final recommendations. After the Council took final action on the annual ocean salmon specifications in April, it transmitted the recommended management measures to NMFS, published them in its newsletter, and posted them on the Council website (www.pcouncil.org).

The annual salmon management cycle historically begins May 1 and continues through April 30 of the following year. This final rule is effective on May 6, rather than the traditional May 1 date, to accommodate the rulemaking process, as was done in 2019. The rule implementing the salmon fishery management measures in 2019 was effective until the effective date of this 2020 rule and governs fisheries that begin prior to May 6, 2020 (84 FR 19729, May 6, 2019). The majority of fisheries recommended by the Council for 2020 begin after May 6, 2020 and are authorized under this rule. Fisheries scheduled to begin before May 6, 2020, which were authorized under the 2019 rule, are the commercial fisheries from Cape Falcon, OR, to the Oregon/California border and from Pigeon Point, CA, to the U.S./Mexico border, recreational fisheries from Cape Falcon, OR, to Humbug Mountain, OR, and from Horse Mountain, CA, to the U.S./Mexico border, and treaty Indian troll fisheries north of Cape Falcon. For purposes of analyzing the impacts of these fisheries on individual stocks relative to the applicable objectives in the FMP, Council analysts assumed fisheries prior to May 6, 2020, would be conducted under the 2019 management measures for the May 1 to May 6 time period, consistent with the effective date of the 2019 salmon management measures rule and subsequent inseason actions under 50 CFR 660.409.

National Environmental Policy Act (NEPA)

The environmental assessment (EA) for this action comprises the Council's documents described above (PRE I, PRE II, and PRE III), providing analysis of environmental and socioeconomic effects under NEPA. The EA and its related Finding of No Significant Impact are posted on the NMFS West Coast Region website (www.fisheries.noaa.gov/region/west-coast).

Resource Status

Stocks of Concern

The FMP requires that the fisheries be shaped to meet escapement-based Annual Catch Limits (ACLs), Endangered Species Act (ESA) consultation requirements, obligations of the Pacific Salmon Treaty (PST) between the U.S. and Canada, and other conservation objectives detailed in the FMP. In addition, under the MSA, all regulations must be consistent with other applicable law. Because the ocean salmon fisheries are mixed-stock fisheries, this requires “weak stock” management to avoid exceeding limits for the stocks with the most constraining limits. Abundance forecasts for individual salmon stocks can vary significantly from one year to the next; therefore, the stocks that constrain the fishery in one year may differ from those that constrain the fishery in the next. For 2020, several stocks will constrain fisheries; these are described below.

Fisheries south of Cape Falcon, are limited in 2020 primarily by conservation concerns for Klamath River fall-run Chinook salmon (KRFC) and, north of the Oregon/California border, ESA conservation requirements for Oregon Coastal natural (OCN) coho salmon. The KRFC stock was determined in 2018 to be overfished; the Council has developed a rebuilding plan which NMFS has proposed to approve (85 FR 6135, February 4, 2020). Fisheries north of Cape Falcon are limited by conservation concerns for Washington coastal coho salmon stocks, primarily Queets River natural (Queets) and Grays Harbor coho salmon, and ESA conservation requirements for Puget Sound Chinook salmon, Lower Columbia River natural (LCR) Chinook salmon and Lower Columbia River natural (LCN) coho salmon. Queets coho salmon was determined in 2018 to be overfished; the Council has developed a rebuilding plan which NMFS is considering for approval. The limitations imposed in order to protect these stocks are described below. The alternatives and the Council's recommended management measures for 2020 were designed to avoid exceeding these limitations. In addition to KRFC and Queets coho salmon, three other salmon stocks (Sacramento River fall-run Chinook salmon (SRFC), Strait of Juan de Fuca natural coho salmon, and Snohomish River natural coho salmon) were also determined in 2018 to be overfished, and the Council has recommended rebuilding plans for these stocks. NMFS proposes to approve the rebuilding plan for SRFC (85 FR 6135, February 4, 2020) and is considering approval for the Strait of Juan de Fuca and Snohomish River natural coho salmon stocks, in addition to Queets coho salmon mentioned above. Meeting conservation objectives for these three overfished stocks (SRFC, Strait of Juan de Fuca, and Snohomish River natural coho salmon) will not constrain fisheries in 2020.

KRFC (not ESA-listed): Abundance for this non-ESA-listed stock in recent years has been historically low, and the stock is currently overfished based on spawning escapement in 2015, 2016, and 2017. The FMP defines “overfished” status in terms of a three-year geometric mean escapement level and whether it is below the minimum stock size threshold (MSST). Forecast abundance for KRFC in 2020, 186.6 thousand, is the seventh lowest on record; the record low was in 2017, 54.2 thousand. Fisheries in 2020 will be constrained in Oregon and California to meet the requirements of the KRFC harvest control rule in the FMP and the rebuilding plan, to meet a 25.0 percent de minimis exploitation rate, which results in a natural-area spawning escapement projection of 36,206, which is greater than the MSST, but below the maximum sustainable yield spawner escapement (SMSY). Fisheries south of Cape Falcon, particularly in the Klamath Management Zone (KMZ) from Humbug Mountain, OR, to Horse Mountain, CA, will be constrained to meet this goal, but less so than in 2017 when there was a complete closure of commercial and recreational ocean salmon fishing in the KMZ.

OCN coho salmon (ESA-listed threatened): OCN coho salmon is an aggregate coho salmon stock that largely corresponds to the Oregon coast coho salmon Evolutionarily Significant Unit (ESU) and is a component of the Oregon Production Index (OPI) area coho. Allowable fishery impacts on OCN coho salmon are determined annually using a matrix that considers parental escapement and OPI smolt-to-jack survival. For 2020, both of these criteria are in the “low” category, which limits the total allowable OCN coho salmon exploitation rate to 15.0 percent. OPI area coho production is dominated by hatchery coho salmon. In 2020, the forecast abundance of hatchery produced OPI area coho is only 20 percent of the 2019 forecast. Out of concern that the low abundance of hatchery coho salmon would result in increased fishery impacts on OCN coho salmon, the Council recommended fisheries that are conservative in their impacts on OCN coho salmon, this will constrain fisheries, primarily in Oregon.

Queets coho (not ESA-listed): The Queets coho stock is managed in Council-area and northern fisheries subject to the provisions of the PST. In 2018, NMFS determined that Queets coho was overfished, based on escapements in 2014, 2015, and 2016. Under the FMP and the Council's recommended rebuilding plan, Queets coho is managed for an escapement of 5.8 thousand (SMSY) natural adult spawners. The forecast abundance of Queets coho in 2020 is 7.8 thousand coho, compared to an average of 14.3 thousand coho over the past decade (2010-2019). Under the criteria of the PST's Southern Coho Management Plan, Queets coho salmon abundance is in the “moderate” category in 2020 and subject to a total exploitation rate limit of 26 percent. Meeting the escapement goal and exploitation rate limit for Queets coho salmon in 2020 will constrain fisheries north of Cape Falcon.

Grays Harbor coho salmon (not ESA-listed): The Grays Harbor coho salmon stock, like Queets coho salmon, is managed in Council-area and northern fisheries subject to provisions of the PST. The forecast abundance of Grays Harbor coho salmon in 2020 is 50 thousand coho, compared to an average of 95.5 thousand coho over the past decade (2010-2019). Under the criteria of the PST's Southern Coho Management Plan, Grays Harbor coho salmon abundance is in the “moderate” category in 2020 and subject to a total exploitation rate limit of 29 percent. Meeting the exploitation rate limit for Grays Harbor coho salmon in 2020 will constrain fisheries north of Cape Falcon.

Puget Sound Chinook salmon (ESA-listed threatened): Impacts on the threatened Puget Sound Chinook salmon ESU from Council-managed fisheries are addressed through a 2004 biological opinion. Generally, these impacts are quite low and within the range contemplated in the 2004 opinion. However, because the Puget Sound Chinook salmon ESU is also impacted by salmon fisheries in Puget Sound and associated freshwater fisheries (collectively referred to as “inside” fisheries), the Council and NMFS usually consider the impacts of Council-area and inside fisheries on Puget Sound Chinook salmon together, and they base their analysis of the combined fishery impacts on a package of Puget Sound fisheries to which the State of Washington and Indian tribes with treaty rights to fish in Puget Sound have agreed through a negotiation process, the North of Falcon forum, that runs concurrent with the Council's salmon season planning process. In 2020, fisheries north of Cape Falcon will be constrained to avoid jeopardy to the Puget Sound Chinook salmon ESU, when combined with inside fisheries.

LCR Chinook salmon (ESA-listed threatened): The LCR Chinook salmon ESU comprises a spring component, a “far-north” migrating bright component, and a component of north migrating tules. The bright and tule components both have fall run timing. There are twenty-one separate populations within the tule component of this ESU. Unlike the spring or bright populations of the ESU, LCR tule populations are caught in large numbers in Council fisheries, as well as fisheries to the north and in the Columbia River. Therefore, this component of the ESU is the one most likely to constrain Council fisheries in the area north of Cape Falcon. Under the provisions of NMFS' 2012 biological opinion on the impact of Council-area salmon fisheries on LCR Chinook salmon, NMFS uses an abundance-based management (ABM) framework to set an annual exploitation rate limit for LCR tule Chinook salmon in ocean salmon fisheries and in-river fisheries below Bonneville Dam, collectively. Applying the ABM framework to the 2020 preseason abundance forecast, the total LCR tule exploitation rate is limited to a maximum of 38 percent. Fisheries will be constrained north of Cape Falcon in 2020 such that, when combined with all other salmon fisheries in the ocean and in the Columbia River below Bonneville Dam, the ESA requirement is met.

Lower Columbia River natural (LCN) coho salmon (ESA-listed threatened): Like OCN coho salmon, LCN coho salmon is a component of the OPI area coho. In 2015, NMFS conducted an ESA section 7 consultation and issued a biological opinion regarding the effects of Council fisheries and fisheries in the Columbia River on LCN coho salmon. The opinion analyzed the use of a harvest matrix to manage impacts to LCN coho salmon. Under the matrix the allowable harvest in a given year depends on indicators of marine survival and parental escapement to spawning. In 2020, ocean salmon fisheries under the Council's jurisdiction in 2020, and commercial and recreational salmon fisheries in the mainstem Columbia River below Bonneville Dam, including select area fisheries (e.g., Youngs Bay), must be managed subject to a total exploitation rate limit on LCN coho not to exceed 18 percent. In 2020, LCN coho will constrain Council-area salmon fisheries, particularly those north of Cape Falcon, such that, when combined with commercial and recreational fisheries in the mainstem Columbia River, the ESA requirement is met.

Other Resource Issues

Southern Resident Killer Whale (SRKW) (ESA-listed endangered): The SRKW distinct population segment (DPS) was listed under the ESA as endangered in 2005 (70 FR 69903, November 18, 2005). NMFS issued a biological opinion analyzing the effects of the ocean salmon fisheries on SRKW in 2009 which concluded that these fisheries are not likely to jeopardize SRKW. NMFS reinitiated consultation on the effects of the ocean salmon fisheries on SRKW on April 12, 2019. To inform the new consultation, the Council formed an ad hoc workgroup (SRKW Workgroup), including salmon and SRKW experts, at its April 2019 meeting. The Council endorsed a schedule for the workgroup to reassess the effects of Council-area salmon fisheries on SRKW. The SRKW Workgroup was also tasked to, as needed, develop a long-term approach that may include proposed conservation measure(s) or management tool(s) that limits PFMC fishery impacts to prey availability for SRKW relative to implementing the FMP. The SRKW workgroup presented its risk assessment report to the Council at the March 2020 Council meeting.

The SRKW Workgroup report suggests that Chinook salmon abundance north of Cape Falcon is consistently more important to SRKW than abundance in areas south of Cape Falcon. It noted that the whales are observed north of Cape Falcon in all seasons and likely have some direct overlap with the salmon fisheries every year, whereas there is likely limited overlap with the salmon fisheries in some years south of Cape Falcon. Furthermore, the contribution of Chinook salmon south of Cape Falcon to SRKW diet may also be largely confined to the winter/spring season, after maturing fall-run Chinook salmon adults that escaped the current year's fishery leave the ocean. The report also provides evidence that after executing Council-area salmon fisheries, the percent of prey remaining and available to SRKW has increased coastwide over the last several decades. NMFS remains committed to this collaborative effort with the Council to develop a long-term approach that ensures the Council's harvest management is responsive to the status of SRKW and will support SRKW recovery to the extent necessary.

For fisheries in 2020, NMFS explained in our guidance letter to the Council that “NMFS is most concerned when Chinook salmon abundance in [North of Falcon] waters is critically low, and there may be insufficient foraging opportunities for SRKWs.” NMFS concluded in our guidance letter that “[i]f the [North of Falcon] abundance is equal to or less than the average of the seven lowest years of abundance . . . , the Council should implement precautionary conservation measures for Council salmon fisheries that affect the abundance in [North of Falcon] waters . . . to benefit the whales.” Guidance with respect to SRKW was largely informed by the SRKW Workgroup's risk assessment. The Council's recommended management measures for 2020 are consistent with NMFS' guidance.

After receiving the Council's recommended management measures for 2020, NMFS completed the Endangered Species Act (ESA) Section 7(a)(2) Biological Opinion and Conference Opinion Consultation on Implementation of the Pacific Fishery Management Council Salmon Fishery Management Plan in 2020 for Southern Resident Killer Whales and their Current and Proposed Critical Habitat. The biological opinion concluded that the 2020 Council-area ocean salmon fisheries would not jeopardize the SRKW DPS and does not aversely modify critical habitat.

Annual Catch Limits and Status Determination Criteria

Annual Catch Limits (ACLs) are set for two Chinook salmon stocks, SRFC and KRFC, and one coho stock, Willapa Bay natural coho. The Chinook salmon stocks are indicator stocks for the Central Valley Fall Chinook complex and the Southern Oregon/Northern California Chinook complex, respectively. The Far North Migrating Coastal Chinook salmon complex (FNMC) includes a group of Chinook salmon stocks that are caught primarily in fisheries north of Cape Falcon and other fisheries that occur north of the U.S./Canada border. No ACL is set for FNMC stocks because they are managed subject to provisions of the PST between the U.S. and Canada. Other Chinook salmon stocks caught in fisheries north of Cape Falcon are ESA-listed or hatchery produced, and are managed consistent with ESA consultations or hatchery goals. Willapa Bay natural coho is the only coho stock for which an ACL is set, as the other coho stocks in the FMP are either ESA-listed, hatchery produced, or managed under the PST.

ACLs for salmon stocks are escapement-based, which means they establish a number of adults that must escape the fisheries to return to the spawning grounds. ACLs are set based on the annual potential spawner abundance forecast and a fishing rate reduced to account for scientific uncertainty. For SRFC in 2020, the overfishing limit (OFL) is SOFL = 473,183 (potential spawner abundance forecast) multiplied by 1−FMSY (1−0.78) or 104,100 returning spawners (FMSY is the fishing mortality rate that would result in maximum sustainable yield—MSY). SABC is 473,183 multiplied by 1−FABC (1−0.70) (FMSY reduced for scientific uncertainty = 0.70) or 141,955. The SACL is set equal to SABC, i.e., 141,955 spawners. The adopted management measures provide for a projected SRFC spawning escapement of 233,174. For KRFC in 2020, SOFL is 48,274 (potential spawner abundance forecast) multiplied by 1−FMSY (1−0.71), or 13,999 returning spawners. SABC is 48,274 multiplied by 1−FABC (1−0.68) (FMSY reduced for scientific uncertainty = 0.68) or 15,448 returning spawners. SACL is set equal to SABC, i.e., 15,448 spawners. When KRFC potential spawner abundance is projected to be less than 54,267 natural-area adults, fisheries are managed under the de minimis portion of the control rule, which allows for some fishing opportunity but results in the expected escapement falling below 40,700 natural-area adult spawners (SMSY). The adopted management measures provide for a projected KRFC spawning escapement of 36,206. For Willapa Bay natural coho in 2020, SOFL = 32,868 (potential spawner abundance forecast) multiplied by 1−FMSY (1−0.74) or 8,546 returning spawners. SABC is 32,868 multiplied by 1−FABC (1−0.70) (FMSY reduced for scientific uncertainty = 0.70) or 9,860. SACL is set equal to SABC, i.e., 9,860 spawners. The adopted management measures provide for a projected Willapa Bay natural coho ocean escapement of 27,700. In summary, for 2020, projected abundance of the three stocks with ACLs (SRFC, KRFC, and Willapa Bay natural coho), in combination with the constraints for ESA-listed and non-ESA-listed stocks, are expected to result in escapements greater than required to meet the ACLs for all three stocks with defined ACLs.

As explained in more detail above under “Stocks of Concern,” fisheries north and south of Cape Falcon are constrained by impact limits necessary to protect ESA-listed salmon stocks including OCN and LCN coho and LCR and Puget Sound Chinook salmon, and to meet conservation objectives for non-ESA listed Queets and Grays Harbor coho and KRFC. For KRFC, SRFC, and Willapa Bay natural coho, FMP conservation objectives provide for higher escapement than 2020 ACLs.

Public Comments

The Council invited written comments on developing 2020 salmon management measures in their notice announcing public meetings and hearings (84 FR 70954, December 26, 2019). At its March meeting, the Council adopted three alternatives for 2020 commercial and recreational salmon management measures having a range of quotas, season structure, and impacts, from the least restrictive in Alternative I to the most restrictive in Alternative III, as well as six alternatives for 2020 North of Cape Falcon treaty Indian troll salmon management measures. These alternatives are described in detail in PRE II. Subsequently, comments were taken at three public hearings held in March, staffed by representatives of the Council and NMFS. The Council received 229 written comments on 2020 ocean salmon fisheries via their electronic portal. The three public hearings were attended by a total of 130 people; 20 people provided oral comments. Comments came from individual fishers, fishing associations, fish buyers, processors, and conservation organizations. Written and oral comments addressed the 2020 management alternatives described in PRE II, and generally expressed preferences for a specific alternative or for particular season structures. One comment submitted for the April meeting was focused on fishery effects on ESA-listed SRKW. All comments were made available via the Council's online briefing book for the April 2020 Council meeting and were considered by the Council, which includes a representative from NMFS, in developing the recommended management measures transmitted to NMFS on April 15, 2020. In addition to comments collected at the public hearings and those submitted directly to the Council, several people provided oral comments at the April 2020 Council meeting. NMFS also invited comments to be submitted directly to the Council or to NMFS, via the Federal Rulemaking Portal (www.regulations.gov) in a notice (85 FR 7977, February 12, 2020); NMFS received one comment, which was a duplicate of a comment submitted to the Council.

Comments on alternatives for fisheries north of Cape Falcon. For fisheries north of Cape Falcon, Alternative I was favored by most commercial and recreational fishery commenters at the public hearing, some supported a combination of Alternative I and II for the commercial fishery. Concern was expressed about the lack of market for seafood products at the present time. The Council adopted an alternative that is within the range of the alternatives considered.

Comments on alternatives for fisheries south of Cape Falcon. Comments on the alternatives for fisheries south of Cape Falcon tended to favor Alternative I, with some support for Alternative II, and a few supporting Alternative III. There were many objections to a “fourth” alternative that was submitted by a commercial fisherman. Several favored a later season, citing concerns over the current lack of market for seafood products. The Council adopted an alternative within the range of alternatives considered.

Comments from federally recognized tribes, including treaty tribe representatives. At its March and April meetings, the Council heard testimony from members of several federally recognized tribes including tribes with treaty rights for salmon harvest; additional comments were submitted in writing. Tribes expressed concern over the low forecasts for many stocks in 2020 and the ramifications for tribal fisheries.

Comments on SRKW. One comment was received for the April Council meeting, in addition to three comments for the March Council meeting, on potential fishery effects on SRKW. Specific comments were made regarding prey availability, suggesting additional analyses and fishery action, and the draft NEPA document. After considering information provided by NMFS on the potential effects of the 2020 fishery alternatives to SRKW, the Council recommended management measures that were responsive to NMFS' guidance and provide fishery escapement of several Chinook salmon stocks in excess of what is required for spawning.

The Council, including the NMFS representative, took all of these comments into consideration. The Council's final recommendation generally includes aspects of all three alternatives, while taking into account the best available scientific information and ensuring that fisheries are consistent with impact limits for ESA-listed stocks, ACLs, PST obligations, other ESA requirements, and tribal fishing rights. The Council and NMFS also considered comments on the NEPA analysis in preparing the final EA.

Management Measures

The Council's recommended ocean harvest levels and management measures for the 2020 fisheries are designed to apportion the burden of protecting the weak stocks identified and discussed in PRE I equitably among ocean fisheries and to allow maximum harvest of natural and hatchery runs surplus to inside fishery and spawning needs. NMFS finds the Council's recommendations to be responsive to the goals of the FMP, the requirements of the resource, and the socioeconomic factors affecting resource users. The recommendations are consistent with the requirements of the MSA, U.S. obligations to Indian tribes with federally recognized fishing rights, and U.S. international obligations regarding Pacific salmon. The Council's recommended management measures are consistent with the proposed actions analyzed in NMFS' ESA consultations for those ESA-listed species that may be affected by Council fisheries, and are otherwise consistent with ESA obligations. Accordingly, NMFS, through this final rule, approves and implements the Council's recommendations.

North of Cape Falcon, 2020 management measures for non-Indian commercial troll and recreational fisheries have somewhat increased quotas for Chinook salmon compared to 2019; coho quotas are substantially lower than in 2019.

Quotas for the 2020 treaty-Indian commercial troll fishery North of Cape Falcon are 35,000 Chinook salmon and 16,500 coho in ocean management areas and Washington State Statistical Area 4B combined. These quotas provide the same amount of Chinook salmon and substantially fewer coho than in 2019. The treaty-Indian commercial fisheries include a May and June fishery with a quota of 17,500 Chinook, and a July and August fishery, with quotas of 17,500 Chinook and 16,500 coho.

South of Cape Falcon, commercial troll and recreational fishery management measures are are shaped to meet conservation and management goals for KRFC spawning escapement and fishery impact limitations for OCN coho. Commercial and recreational fisheries south of Cape Falcon will be directed primarily at Chinook salmon; commercial fisheries south of Cape Falcon will have no coho retention.

The timing of the March and April Council meetings makes it impracticable for the Council to recommend fishing seasons that begin before May of the same year. Therefore, this action also establishes the 2021 fishing seasons that open earlier than May 6. The Council recommended, and NMFS concurs, that the commercial and recreational seasons will open in 2021 as indicated in the “Season Description” section of this document. At the March and/or April 2021 meeting, NMFS may take inseason action, if recommended by the Council, to adjust the commercial and recreational seasons prior to the effective date of the 2021 management measures which are expected to be effective in mid-May 2021.

The following sections set out the management regime for the ocean salmon fishery. Open seasons and days are described in Sections 1, 2, and 3 of the 2020 management measures. Inseason closures in the commercial and recreational fisheries are announced on the NMFS hotline and through the U.S. Coast Guard (USCG) Notice to Mariners as described in Section 6. Other inseason adjustments to management measures are also announced on the hotline and through the Notice to Mariners. Inseason actions will also be published in the Federal Register as soon as practicable.

The following are the management measures recommended by the Council, approved, and implemented here for 2020 and, as specified, for 2021.

Section 1. Commercial Management Measures for 2020 Ocean Salmon Fisheries

Parts A, B, and C of this section contain restrictions that must be followed for lawful participation in the fishery. Part A identifies each fishing area and provides the geographic boundaries from north to south, the open seasons for the area, the salmon species allowed to be caught during the seasons, and any other special restrictions effective in the area. Part B specifies minimum size limits. Part C specifies special requirements, definitions, restrictions, and exceptions.

A. Season Description

North of Cape Falcon, OR

—U.S./Canada border to Cape Falcon

May 6 through the earlier of June 28, or 13,820 Chinook. No more than 5,100 of which may be caught in the area between the U.S./Canada border and the Queets River, and no more than 3,770 of which may be caught in the area between Leadbetter Point and Cape Falcon (C.8). Open seven days per week (C.1). All salmon, except coho (C.4, C.7). Chinook minimum size limit of 28 inches total length (B). See compliance requirements (C.1) and gear restrictions and definitions (C.2, C.3). In the area between the U.S./Canada border and the Queets River, the landing and possession limit is 75 Chinook per vessel per landing week (Thursday-Wednesday) (C.1, C.6). In the area between Leadbetter Point and Cape Falcon, the landing and possession limit is 75 Chinook per vessel per landing week (Thursday-Wednesday) (C.1, C.6). When it is projected that approximately 75 percent of the overall Chinook guideline has been landed, or approximately 75 percent of any of the individual Chinook subarea guidelines have been landed, inseason action will be considered to ensure the guideline is not exceeded.

In 2021, the season will open May 1 for all salmon except coho consistent with preseason regulations as described for this area and subareas for May 6-June 28, 2020, including subarea salmon guidelines and weekly vessel limits. These regulations would apply from the opening of the fishery on May 1, 2021, until modified inseason following Council review at its March and/or April 2021 meetings. Catch during this opening will be counted towards quotas set for this area and subareas at the April 2021 meeting.

July 1 through the earlier of September 30, or 13,820 Chinook or 2,000 coho (C.8). Open seven days per week. All salmon. Chinook minimum size limit of 28 inches total length. Coho minimum size limit of 16 inches total length (B, C.1). All coho must be marked with a healed adipose fin clip (C.8.e). No chum retention north of Cape Alava, WA, in August and September (C.4, C.7). See compliance requirements (C.1) and gear restrictions and definitions (C.2, C.3). Landing and possession limit of 10 marked coho per vessel per landing week (Thursday-Wednesday) (C.1).

For all commercial troll fisheries north of Cape Falcon: Mandatory closed areas include: Salmon troll Yelloweye Rockfish Conservation (YRCA) Area, Cape Flattery, and Columbia Control Zones, and beginning August 10, the Grays Harbor Control Zone (C.5). Vessels must land and deliver their salmon within 24 hours of any closure of this fishery. Vessels fishing or in possession of salmon north of Leadbetter Point must land and deliver all species of fish in a Washington port and must possess a Washington troll and/or salmon delivery license. Vessels may not land fish east of the Sekiu River or east of the Megler-Astoria bridge. For delivery to Washington ports south of Leadbetter Point, vessels must notify the WDFW at 360-249-1215 prior to crossing the Leadbetter Point line with area fished, total Chinook, coho, and halibut catch aboard, and destination with approximate time of delivery. During any single trip, only one side of the Leadbetter Point line may be fished (C.11). Vessels fishing or in possession of salmon while fishing south of Leadbetter Point must land and deliver all species of fish within the area and south of Leadbetter Point, except that Oregon permitted vessels may also land all species of fish in Garibaldi, Oregon. Under state law, vessels must report their catch on a state fish receiving ticket. Oregon State regulations require all fishers landing salmon into Oregon from any fishery between Leadbetter Point, Washington and Cape Falcon, Oregon to notify ODFW within one hour of delivery or prior to transport away from the port of landing by either calling 541-867-0300 ext. 271 or sending notification via email to nfalcon.trollreport@state.or.us. Notification shall include vessel name and number, number of salmon by species, port of landing and location of delivery, and estimated time of delivery. Inseason actions may modify harvest guidelines in later fisheries to achieve or prevent exceeding the overall allowable troll harvest impacts (C.8). Vessels in possession of salmon north of the Queets River may not cross the Queets River line without first notifying WDFW at 360-249-1215 with area fished, total Chinook, coho, and halibut catch aboard and destination. Vessels in possession of salmon south of the Queets River may not cross the Queets River line without first notifying WDFW at 360-249-1215 with area fished, total Chinook, coho, and halibut catch aboard, and destination (C.11).

South of Cape Falcon, OR

—Cape Falcon to Humbug Mountain

April 20-30;

May 1-5, 26-31;

June 4-30;

July 1-31;

August 1-25;

September 1-October 31 (C.8.g, C.9).

Open seven days per week. All salmon except coho (C.4, C.7). Chinook minimum size limit of 28 inches total length (B, C.1). All vessels fishing in the area must land their salmon in the State of Oregon. See gear restrictions and definitions (C.2, C.3). Beginning September 1, no more than 75 Chinook allowed per vessel per landing week (Thursday-Wednesday).

In 2021, the season will open March 15 for all salmon except coho. Chinook minimum size limit of 28 inches total length (B, C.1). Gear and other restrictions same as in 2020 (C.2, C.3, C.4). This opening could be modified following Council review at its March 2021 meetings (C.8).

—Humbug Mt. to OR/CA Border (Oregon KMZ)

April 20-30;

May 1-5, 26-31;

June 4 through the earlier of June 30, or a 700 Chinook quota;

July 1 through the earlier of July 31, or a 300 Chinook quota (C.8.g, C.9).

Open seven days per week. All salmon except coho (C.4, C.7). Chinook minimum size limit of 28 inches total length (B, C.1). See compliance requirements (C.1) and gear restrictions and definitions (C.2, C.3). Prior to June 4, all salmon caught in this area must be landed and delivered in the State of Oregon.

June 4-July 31 weekly landing and possession limit of 40 Chinook per vessel per landing week (Thursday-Wednesday) (C.8.f). Any remaining portion of Chinook quotas may be transferred inseason on an impact neutral basis to the next open quota period (C.8.b).

All vessels fishing in this area during June and July, must land and deliver all salmon within this area or into Port Orford within 24 hours of any closure of this fishery and prior to fishing outside of this area (C.6).

For all quota managed seasons (June and July), Oregon state regulations require fishers to notify ODFW within one hour of landing and prior to transport away from the port of landing by calling 541-867-0300 Ext. 252 or sending notification via email to kmzor.trollreport@state.or.us, with vessel name and number, number of salmon by species, location of delivery, and estimated time of delivery.

In 2021, the season will open March 15 for all salmon except coho. Chinook minimum size limit of 28 inches total length (B; C.1). Gear restrictions same as in 2020 (C.2, C.3, C.4). This season would open without quota or weekly landing limits unless modified following Council review at its March 2021 meeting (C.8).

—Oregon/California Border to Humboldt South Jetty (California KMZ)

Closed (C.9).

In 2021, the season will open May 1 through the earlier of May 31, or a 3,000 Chinook quota. Chinook minimum size limit of 27 inches total length. Landing and possession limit of 20 Chinook per vessel per day (C.8.f). Open five days per week (Friday-Tuesday). All salmon except coho (C.4, C.7). Any remaining portion of Chinook quotas may be transferred inseason on an impact neutral basis to the next open quota period (C.8.b). All fish caught in this area must be landed within the area, within 24 hours of any closure of the fishery (C.6), and prior to fishing outside the area (C.10). See compliance requirements (C.1) and gear restrictions and definitions (C.2, C.3). Klamath Control Zone closed (C.5.e). See California State regulations for an additional closures adjacent to the Smith River. This opening could be modified following Council review at its March or April 2021 meetings.

—Humboldt South Jetty to Horse Mountain

Closed.

For all commercial fisheries south of Cape Falcon: When the fishery is closed between the OR/CA border and Humbug Mountain (C.11) and open to the south, vessels with fish on board caught in the open area off California may seek temporary mooring in Brookings, Oregon prior to landing in California only if such vessels first notify the Chetco River Coast Guard Station via VHF channel 22A between the hours of 0500 and 2200 and provide the vessel name, number of fish on board, and estimated time of arrival (C.6).

—Horse Mountain to Point Arena (Fort Bragg)

August 1-10;

September 1-30 (C.8.g, C.9).

Open seven days per week. All salmon except coho (C.4, C.7). Chinook minimum size limit of 27 inches total length (B, C.1). See compliance requirements (C.1) and gear restrictions and definitions (C.2, C.3). All salmon must be landed in California and north of Point Arena (C.6).

In 2021, the season will open April 15 for all salmon except coho. Chinook minimum size limit of 27 inches total length. Gear restrictions same as in 2020. This opening could be modified following Council review at its March or April 2021 meetings.

—Point Arena to Pigeon Point (San Francisco)

May 6-12, 18-31;

June 1-6, 14-30;

July 13-31;

August 1-28;

September 1-30 (C.8.g, C.9).

Open seven days per week. All salmon except coho (C.4, C.7). Chinook minimum size limit of 27 inches total length through August, then 26 inches thereafter (B, C.1). See compliance requirements (C.1) and gear restrictions and definitions (C.2, C.3). All salmon must be landed in California. All salmon caught in the area prior to September 1 must be landed and offloaded no later than 11:59 p.m., August 30 (C.6). During September, all salmon must be landed south of Point Arena (C.6, C.11).

In 2021, the season will open May 1 for all salmon except coho. Chinook minimum size limit of 27 inches total length. Gear restrictions same as in 2020. This opening could be modified following Council review at its March or April 2021 meetings.

• Point Reyes to Point San Pedro (Fall Area Target Zone)

October 1-2, 5-9, 12-15.

Open five days per week (Monday-Friday). All salmon except coho (C.4, C.7). Chinook minimum size limit of 26 inches total length (B, C.1). All salmon caught in this area must be landed between Point Arena and Pigeon Point (C.6, C.11). See compliance requirements (C.1) and gear restrictions and definitions (C.2, C.3).

—Pigeon Point to U.S./Mexico border (Monterey)

May 1-12, 18-31;

June 1-6, 14-30;

July 13-31;

August 1-28 (C.8.g, C.9).

Open seven days per week. All salmon except coho (C.4, C.7). Chinook minimum size limit of 27 inches total length (B, C.1). See compliance requirements (C.1) and gear restrictions and definitions (C.2, C.3). All salmon must be landed in California. All salmon caught in the area must be landed and offloaded no later than 11:59 p.m., August 30 (C.6).

In 2021, the season will open May 1 for all salmon except coho. Chinook minimum size limit of 27 inches total length. Gear restrictions same as in 2020. This opening could be modified following Council review at its March or April 2021 meeting.

For all commercial troll fisheries in California: California State regulations require all salmon be made available to a California Department of Fish and Wildlife (CDFW) representative for sampling immediately at port of landing. Any person in possession of a salmon with a missing adipose fin, upon request by an authorized agent or employee of the CDFW, shall immediately relinquish the head of the salmon to the state (California Fish and Game Code § 8226).

B. Minimum Size (Inches) (See C.1)

Area (when open) | Chinook: Total length | Chinook: Head-off | Coho: Total length | Coho: Head-off | Pink
North of Cape Falcon, OR | 28.0 | 21.5 | 16 | 12 | None.
Cape Falcon to Humbug Mountain | 28.0 | 21.5 |  |  | None.
Humbug Mountain to OR/CA border | 28.0 | 21.5 |  |  | None.
OR/CA border to Humboldt South Jetty | Closed |  |  |  |
Horse Mountain to Point Arena | 27.0 | 20.5 |  |  | 27.
Point Arena to Pigeon Point (through August) | 27.0 | 20.5 |  |  | 27.
Point Arena to Pigeon Point (September-October) | 26.0 | 19.5 |  |  | 26.
Pigeon Point to U.S./Mexico border | 27.0 | 20.5 |  |  | 27.
Metric equivalents: 28.0 in = 71.1 cm, 27.0 in = 68.5 cm, 26 in = 66 cm, 21.5 in = 54.6 cm, 20.5 in = 52.1 cm, 19.5 in = 49.5 cm, 16.0 in = 40.6 cm, and 12.0 in = 30.5 cm.

C. Requirements, Definitions, Restrictions, or Exceptions

C.1. Compliance With Minimum Size or Other Special Restrictions

All salmon on board a vessel must meet the minimum size, landing/possession limit, or other special requirements for the area being fished and the area in which they are landed if the area is open or has been closed less than 48 hours for that species of salmon. Salmon may be landed in an area that has been closed for a species of salmon more than 48 hours only if they meet the minimum size, landing/possession limit, or other special requirements for the area in which they were caught. Salmon may not be filleted prior to landing.

Any person who is required to report a salmon landing by applicable state law must include on the state landing receipt for that landing both the number and weight of salmon landed by species. States may require fish landing/receiving tickets be kept on board the vessel for 90 days or more after landing to account for all previous salmon landings.

C.2. Gear Restrictions

a. Salmon may be taken only by hook and line using single point, single shank, barbless hooks.

b. Cape Falcon, OR, to the Oregon/California border: No more than 4 spreads are allowed per line.

c. Oregon/California border to U.S./Mexico border: No more than 6 lines are allowed per vessel, and barbless circle hooks are required when fishing with bait by any means other than trolling.

C.3. Gear Definitions

Trolling defined: Fishing from a boat or floating device that is making way by means of a source of power, other than drifting by means of the prevailing water current or weather conditions.

Troll fishing gear defined: One or more lines that drag hooks behind a moving fishing vessel engaged in trolling. In that portion of the fishery management area off Oregon and Washington, the line or lines must be affixed to the vessel and must not be intentionally disengaged from the vessel at any time during the fishing operation.

Spread defined: A single leader connected to an individual lure and/or bait.

Circle hook defined: A hook with a generally circular shape and a point which turns inward, pointing directly to the shank at a 90° angle.

C.4. Vessel Operation in Closed Areas With Salmon on Board

a. Except as provided under C.4.b below, it is unlawful for a vessel to have troll or recreational gear in the water while in any area closed to fishing for a certain species of salmon, while possessing that species of salmon; however, fishing for species other than salmon is not prohibited if the area is open for such species, and no salmon are in possession.

b. When Genetic Stock Identification (GSI) samples will be collected in an area closed to commercial salmon fishing, the scientific research permit holder shall notify NOAA Office of Law Enforcement, USCG, CDFW, WDFW, and Oregon State Police at least 24 hours prior to sampling and provide the following information: The vessel name, date, location, and time collection activities will be done. Any vessel collecting GSI samples in a closed area shall not possess any salmon other than those from which GSI samples are being collected. Salmon caught for collection of GSI samples must be immediately released in good condition after collection of samples.

C.5. Control Zone Definitions

a. Cape Flattery Control Zone—The area from Cape Flattery (48°23′00″ N lat.) to the northern boundary of the U.S. EEZ; and the area from Cape Flattery south to Cape Alava (48°10′00″ N lat.) and east of 125°05′00″ W long.

b. Salmon Troll YRCA (50 CFR 660.70(c))—The area in Washington Marine Catch Area 3 from 48°00.00′ N lat.; 125°14.00′ W long. to 48°02.00′ N lat.; 125°14.00′ W long. to 48°02.00′ N lat.; 125°16.50′ W long. to 48°00.00′ N lat.; 125°16.50′ W long. and connecting back to 48°00.00′ N lat.; 125°14.00′ W long.

c. Grays Harbor Control Zone—The area defined by a line drawn from the Westport Lighthouse (46°53′18″ N lat., 124° 07′01″ W long.) to Buoy #2 (46°52′42″ N lat., 124°12′42″ W long.) to Buoy #3 (46°55′00″ N lat., 124°14′48″ W long.) to the Grays Harbor north jetty (46°55′36″ N lat., 124°10′51″ W long.).

d. Columbia Control Zone—An area at the Columbia River mouth, bounded on the west by a line running northeast/southwest between the red lighted Buoy #4 (46°13′35″ N lat., 124°06′50″ W long.) and the green lighted Buoy #7 (46°15′09′ N lat., 124°06′16″ W long.); on the east, by the Buoy #10 line which bears north/south at 357° true from the south jetty at 46°14′00″ N lat., 124°03′07″ W long. to its intersection with the north jetty; on the north, by a line running northeast/southwest between the green lighted Buoy #7 to the tip of the north jetty (46°15′48″ N lat., 124°05′20″ W long.) and then along the north jetty to the point of intersection with the Buoy #10 line; and, on the south, by a line running northeast/southwest between the red lighted Buoy #4 and tip of the south jetty (46°14′03″ N lat., 124°04′05″ W long.), and then along the south jetty to the point of intersection with the Buoy #10 line.

e. Klamath Control Zone—The ocean area at the Klamath River mouth bounded on the north by 41°38′48″ N lat. (approximately 6 nautical miles north of the Klamath River mouth); on the west by 124°23′00″ W long. (approximately 12 nautical miles off shore); and on the south by 41°26′48″ N lat. (approximately 6 nautical miles south of the Klamath River mouth).

C.6. Notification When Unsafe Conditions Prevent Compliance With Regulations

If prevented by unsafe weather conditions or mechanical problems from meeting special management area landing restrictions, vessels must notify the USCG and receive acknowledgment of such notification prior to leaving the area. This notification shall include the name of the vessel, port where delivery will be made, approximate number of salmon (by species) on board, the estimated time of arrival, and the specific reason the vessel is not able to meet special management area landing restrictions.

In addition to contacting the USCG, vessels fishing south of the Oregon/California border must notify CDFW within one hour of leaving the management area by calling 800-889-8346 and providing the same information as reported to the USCG. All salmon must be offloaded within 24 hours of reaching port.

C.7. Incidental Halibut Harvest

License applications for incidental harvest for halibut during commercial salmon fishing must be obtained from IPHC. The application deadline was March 15, 2020 to obtain a 2020 license from IPHC.

During the 2020 salmon troll season, incidental harvest is authorized only during April, May, and June, and after June 30 if quota remains and if announced on the NMFS hotline (phone: 800-662-9825 or 206-526-6667). WDFW, Oregon Department of Fish and Wildlife (ODFW), and CDFW will monitor landings. If the landings are projected to exceed the IPHC's 44,899 pound preseason allocation or the total Area 2A non-Indian commercial halibut allocation, NMFS will take inseason action to prohibit retention of halibut in the non-Indian salmon troll fishery.

Beginning May 1, 2020 through the end of the 2020 salmon troll fishery, and beginning April 1, 2021, until modified through inseason action or superseded by the 2021 management measures the following applies: License holders may land no more than one Pacific halibut per each two Chinook, except one Pacific halibut may be landed without meeting the ratio requirement, and no more than 35 halibut may be landed per trip.

Incidental Pacific halibut catch regulations in the commercial salmon troll fishery adopted for 2020, prior to any 2020 inseason action, will be in effect when incidental Pacific halibut retention opens on April 1, 2021 unless otherwise modified by inseason action at the March 2021 Council meeting.

a. “C-shaped” YRCA is an area to be voluntarily avoided for salmon trolling. NMFS and the Council request salmon trollers voluntarily avoid this area in order to protect yelloweye rockfish. The area is defined in the Pacific Council Halibut Catch Sharing Plan in the North Coast subarea (Washington marine area 3), with the following coordinates in the order listed:

48°18′ N lat.; 125°18′ W long.;

48°18′ N lat.; 124°59′ W long.;

48°11′ N lat.; 124°59′ W long.;

48°11′ N lat.; 125°11′ W long.;

48°04′ N lat.; 125°11′ W long.;

48°04′ N lat.; 124°59′ W long.;

48°00′ N lat.; 124°59′ W long.;

48°00′ N lat.; 125°18′ W long.;

and connecting back to 48°18′ N lat.; 125°18′ W long.

C.8. Inseason Management

In addition to standard inseason actions or modifications already noted under the season description, the following inseason guidance applies:

a. Chinook remaining from the May through June non-Indian commercial troll harvest guideline north of Cape Falcon may be transferred to the July through September harvest guideline if the transfer would not result in exceeding preseason impact expectations on any stocks.

b. Chinook remaining from May, June, and/or July non-Indian commercial troll quotas in the Oregon or California KMZ may be transferred to the Chinook quota for the next open period if the transfer would not result in exceeding preseason impact expectations on any stocks.

c. NMFS may transfer salmon between the recreational and commercial fisheries north of Cape Falcon if there is agreement among the areas' representatives on the Salmon Advisory Subpanel (SAS), and if the transfer would not result in exceeding preseason impact expectations on any stocks.

d. At the March 2021 meeting, the Council will consider inseason recommendations for special regulations for any experimental fisheries (proposals must meet Council protocol and be received in November 2020).

e. If retention of unmarked coho (adipose fin intact) is permitted by inseason action, the allowable coho quota will be adjusted to ensure preseason projected impacts on all stocks is not exceeded.

f. Landing limits may be modified inseason to sustain season length and keep harvest within overall quotas.

g. NMFS may close fisheries through inseason action on the recommendation of the affected state(s) of Washington, Oregon or California where the recommendation to close is informed by an evaluation of actions or orders promulgated or issued by jurisdictions in these areas to address public health concerns concluding that these actions would likely make access to the fishery impracticable (e.g., restrictions on activities or closure of harbors, launch ramps and other forms of access) or would make information essential to manage and implement the fishery unavailable. NMFS should open fisheries closed on this basis through inseason action upon notice from the affected State(s) that said actions or orders making access to the fishery impracticable have been lifted and information essential to manage and implement the fishery would be available.

C.9. State Waters Fisheries

Consistent with Council management objectives:

a. The State of Oregon may establish additional late-season fisheries in state waters.

b. The State of California may establish limited fisheries in selected state waters. Check state regulations for details.

C.10. For the Purposes of California Fish and Game Code, Section 8232.5, the Definition of the KMZ for the Ocean Salmon Season Shall Be That Area From Humbug Mountain, Oregon, to Horse Mountain, California

C.11. Latitudes for Geographical Reference of Major Landmarks Along the West Coast Are Listed in Section 5 of This Rule

Section 2. Recreational Management Measures for 2020 Ocean Salmon Fisheries

Parts A, B, and C of this section contain restrictions that must be followed for lawful participation in the fishery. Part A identifies each fishing area and provides the geographic boundaries from north to south, the open seasons for the area, the salmon species allowed to be caught during the seasons, and any other special restrictions effective in the area. Part B specifies minimum size limits. Part C specifies special requirements, definitions, restrictions and exceptions.

A. Season Description

North of Cape Falcon, OR

—U.S./Canada border to Cape Alava (Neah Bay Subarea)

June 20 through the earlier of September 30, or 2,760 marked coho subarea quota, with a subarea guideline of 5,600 Chinook (C.5). Open seven days a week. See minimum size limits (B). See gear restrictions and definitions (C.2, C.3).

During June 20-28: All salmon except coho; one salmon per day (C.1).

Beginning June 29: All salmon, except no chum beginning August 1; two salmon per day. All coho must be marked with a healed adipose fin clip (C.1).

Beginning August 1, Chinook non-retention east of the Bonilla-Tatoosh line (C.4.a) during Council managed ocean fishery.

—Cape Alava to Queets River (La Push Subarea)

June 20 through the earlier of September 30, or 690 marked coho subarea quota, with a subarea guideline of 1,300 Chinook (C.5). Open seven days a week. See salmon minimum size limits (B). See gear restrictions and definitions (C.2, C.3).

During June 20-28: All salmon except coho; one salmon per day (C.1).

Beginning June 29: All salmon, except no chum beginning August 1; two salmon per day. All coho must be marked with a healed adipose fin clip (C.1).

—Queets River to Leadbetter Point (Westport Subarea)

June 20 through the earlier of September 30, or 9,800 marked coho subarea quota, with a subarea guideline of 12,460 Chinook (C.5). Chinook minimum size limit of 22 inches total length (B). Coho minimum size limit of 16 inches total length (B). See gear restrictions and definitions (C.2, C.3).

During June 20-28: Open seven days per week. All salmon except coho; one salmon per day (C.1).

Beginning June 29: Open five days per week (Sunday-Thursday). All salmon; two salmon per day, no more than one of which may be a Chinook. All coho must be marked with a healed adipose fin clip (C.1).

Grays Harbor Control Zone closed beginning August 10 (C.4.b).

—Leadbetter Point to Cape Falcon (Columbia River Subarea)

June 20 through the earlier of September 30, or 13,250 marked coho subarea quota, with a subarea guideline of 7,000 Chinook (C.5). Chinook minimum size limit of 22 inches total length (B). Coho minimum size limit of 16 inches total length (B). See gear restrictions and definitions (C.2, C.3).

During June 20-28: Open seven days per week. All salmon except coho; one salmon per day (C.1).

Beginning June 29, open seven days per week. All salmon; two salmon per day, no more than one of which may be a Chinook. All coho must be marked with a healed adipose fin clip (C.1).

Columbia Control Zone closed (C.4.c).

For all Recreational fisheries north of Cape Falcon: Inseason management may be used to sustain season length and keep harvest within the overall Chinook and coho recreational TACs for north of Cape Falcon (C.5).

South of Cape Falcon, OR

—Cape Falcon to Humbug Mountain

March 15-October 31 (C.6), except as provided below during the all-salmon mark-selective fishery and the non-mark-selective coho fishery (C.5). Open seven days per week. All salmon except coho, two fish per day (C.1). See minimum size limits (B). See gear restrictions and definitions (C.2, C.3).

In 2021, the season will open March 15 for all salmon except coho, two salmon per day (C.1). Same minimum size limits (B), and the same gear restrictions as in 2020 (C.2, C.3). This opening could be modified following Council review at its March 2021 meeting (C.5).

—Cape Falcon to Humbug Mountain

Mark-selective coho fishery: June 27 through the earlier of August 16, or 22,000 marked coho quota (C.5.g, C.6). Open seven days per week. All salmon, two salmon per day. All retained coho must be marked with a healed adipose fin clip (C.1). See minimum size limits (B). See gear restrictions and definitions (C.2, C.3). Any remainder of the mark-selective coho quota may be transferred inseason on an impact neutral basis to the non-selective coho quota from Cape Falcon to Humbug Mountain (C.5).

Non-mark-selective coho fishery: September 4-5, and open each Friday and Saturday through the earlier of September 30, or 3,000 non-mark-selective coho quota (C.5.g, C.6). Open days may be modified inseason. All salmon, two salmon per day (C.1). See minimum size limits (B). See gear restrictions and definitions (C.2, C.3).

—Humbug Mountain to Oregon/California border (Oregon KMZ)

June 20-August 7 (C.5.g, C.6). Open seven days per week. All salmon except coho, two salmon per day (C.1). See minimum size limits (B). See gear restrictions and definitions (C.2, C.3).

For recreational fisheries from Cape Falcon to Humbug Mountain: Fishing in the Stonewall Bank YRCA restricted to trolling only on days the all depth recreational halibut fishery is open (call the halibut fishing hotline 1-800-662-9825 for specific dates) (C.3.b, C.4.d).

—Oregon/California border to Horse Mountain (California KMZ)

• June 6-August 9 (C.5.f, C.5.g, C.6). Open seven days per week. All salmon except coho, two salmon per day (C.1). Chinook minimum size limit of 20 inches total length (B). See gear restrictions and definitions (C.2, C.3).

Klamath Control Zone closed in August (C.4.e). See California State regulations for additional closures adjacent to the Smith, Eel, and Klamath Rivers.

In 2021, season opens May 1 for all salmon except coho, two salmon per day (C.1). Chinook minimum size limit of 20 inches total length (B); and the same gear restrictions as in 2020 (C.2, C.3). This opening could be modified following Council review at its March 2021 meeting.

—Horse Mountain to Point Arena (Fort Bragg)

May 1-November 8 (C.5.f, C.5.g, C.6). Open seven days per week. All salmon except coho, two salmon per day (C.1). Chinook minimum size limit of 20 inches total length (B). See gear restrictions and definitions (C.2, C.3).

In 2021, season opens April 3 for all salmon except coho, two salmon per day (C.1). Chinook minimum size limit of 20 inches total length (B); and the same gear restrictions as in 2020 (C.2, C.3). This opening could be modified following Council review at its March 2021 meeting.

—Point Arena to Pigeon Point (San Francisco)

May 1-November 8 (C.5.f, C.5.g, C.6). Open seven days per week. All salmon except coho, two salmon per day (C.1). Chinook minimum size limit of 20 inches total length. See gear restrictions and definitions (C.2, C.3).

In 2021, season opens April 3 for all salmon except coho, two salmon per day (C.1). Chinook minimum size limit of 24 inches total length (B); and the same gear restrictions as in 2020 (C.2, C.3). This opening could be modified following Council review at its March 2021 meeting.

—Pigeon Point to U.S./Mexico border (Monterey)

May 1-October 4 (C.5.f, C.5.g, C.6). Open seven days per week. All salmon except coho, two salmon per day (C.1). Chinook minimum size limit of 24 inches total length (B). See gear restrictions and definitions (C.2, C.3).

In 2021, season opens April 3 for all salmon except coho, two salmon per day (C.1). Chinook minimum size limit of 24 inches total length (B); and the same gear restrictions as in 2020 (C.2, C.3). This opening could be modified following Council review at its March 2021 meeting.

California State regulations require all salmon be made available to a CDFW representative for sampling immediately at port of landing. Any person in possession of a salmon with a missing adipose fin, upon request by an authorized agent or employee of the CDFW, shall immediately relinquish the head of the salmon to the state (California Code of Regulations Title 14 Section 1.73).

B. Minimum Size (Total Length in Inches) (See C.1)

Area (when open) | Chinook | Coho | Pink
North of Cape Falcon (Westport and Columbia River) | 22.0 | 16.0 | None.
North of Cape Falcon (Neah Bay and La Push) | 24.0 | 16.0 | None.
Cape Falcon to Humbug Mt | 24.0 | 16.0 | None.
Humbug Mt. to OR/CA border | 24.0 |  | None.
OR/CA border to Horse Mt | 20.0 |  | 20.0.
Horse Mt. to Pt. Arena | 20.0 |  | 20.0.
Pt. Arena to Pigeon Pt. (in 2020) | 20.0 |  | 20.0.
Pt. Arena to Pigeon Pt. (in 2021) | 24.0 |  | 24.0.
Pigeon Pt. to U.S./Mexico border | 24.0 |  | 24.0.
Metric equivalents: 24.0 in = 61.0 cm, 22.0 in = 55.9 cm, 20.0 in = 50.8 cm, and 16.0 in = 40.6 cm.

C. Requirements, Definitions, Restrictions, or Exceptions

C.1. Compliance With Minimum Size and Other Special Restrictions

All salmon on board a vessel must meet the minimum size or other special requirements for the area being fished and the area in which they are landed if that area is open. Salmon may be landed in an area that is closed only if they meet the minimum size or other special requirements for the area in which they were caught. Salmon may not be filleted prior to landing.

Ocean Boat Limits: Off the coast of Washington, Oregon, and California, each fisher aboard a vessel may continue to use angling gear until the combined daily limits of Chinook and coho salmon for all licensed and juvenile anglers aboard have been attained (additional state restrictions may apply).

C.2. Gear Restrictions

Salmon may be taken only by hook and line using barbless hooks. All persons fishing for salmon, and all persons fishing from a boat with salmon on board, must meet the gear restrictions listed below for specific areas or seasons.

a. U.S./Canada border to Point Conception, CA: No more than one rod may be used per angler; and no more than two single point, single shank barbless hooks are required for all fishing gear.

b. Horse Mountain, CA, to Point Conception, CA: Single point, single shank, barbless circle hooks (see gear definitions below) are required when fishing with bait by any means other than trolling, and no more than two such hooks shall be used. When angling with two hooks, the distance between the hooks must not exceed five inches when measured from the top of the eye of the top hook to the inner base of the curve of the lower hook, and both hooks must be permanently tied in place (hard tied). Circle hooks are not required when artificial lures are used without bait.

C.3. Gear Definitions

a. Recreational fishing gear defined: Off Oregon and Washington, angling tackle consists of a single line that must be attached to a rod and reel held by hand or closely attended; the rod and reel must be held by hand while playing a hooked fish. No person may use more than one rod and line while fishing off Oregon or Washington. Off California, the line must be attached to a rod and reel held by hand or closely attended; weights directly attached to a line may not exceed four pounds (1.8 kg). While fishing off California north of Point Conception, no person fishing for salmon, and no person fishing from a boat with salmon on board, may use more than one rod and line. Fishing includes any activity which can reasonably be expected to result in the catching, taking, or harvesting of fish.

b. Trolling defined: Angling from a boat or floating device that is making way by means of a source of power, other than drifting by means of the prevailing water current or weather conditions.

c. Circle hook defined: A hook with a generally circular shape and a point which turns inward, pointing directly to the shank at a 90° angle.

C.4. Control Zone Definitions

a. The Bonilla-Tatoosh Line: A line running from the western end of Cape Flattery to Tatoosh Island Lighthouse (48°23′30″ N lat., 124°44′12″ W long.) to the buoy adjacent to Duntze Rock (48°24′37″ N lat., 124°44′37″ W long.), then in a straight line to Bonilla Point (48°35′39″ N lat., 124°42′58″ W long.) on Vancouver Island, British Columbia.

b. Grays Harbor Control Zone—The area defined by a line drawn from the Westport Lighthouse (46°53′18″ N lat., 124°07′01″ W long.) to Buoy #2 (46°52′42″ N lat., 124°12′42″ W long.) to Buoy #3 (46°55′00″ N lat., 124°14′48″ W long.) to the Grays Harbor north jetty (46°55′36″ N lat., 124°10′51″ W long.).

c. Columbia Control Zone: An area at the Columbia River mouth, bounded on the west by a line running northeast/southwest between the red lighted Buoy #4 (46°13′35″ N lat., 124°06′50″ W long.) and the green lighted Buoy #7 (46°15′09″ N lat., 124°06′16″ W long.); on the east, by the Buoy #10 line which bears north/south at 357° true from the south jetty at 46°14′00″ N lat., 124°03′07″ W long. to its intersection with the north jetty; on the north, by a line running northeast/southwest between the green lighted Buoy #7 to the tip of the north jetty (46°15′48″ N lat., 124°05′20″ W long.) and then along the north jetty to the point of intersection with the Buoy #10 line; and on the south, by a line running northeast/southwest between the red lighted Buoy #4 and tip of the south jetty (46°14′03″ N lat., 124°04′05″ W long.), and then along the south jetty to the point of intersection with the Buoy #10 line.

d. Stonewall Bank YRCA: The area defined by the following coordinates in the order listed:

44°37.46′ N lat.; 124°24.92′ W long.

44°37.46′ N lat.; 124°23.63′ W long.

44°28.71′ N lat.; 124°21.80′ W long.

44°28.71′ N lat.; 124°24.10′ W long.

44°31.42′ N lat.; 124°25.47′ W long.

and connecting back to 44°37.46′ N lat.; 124°24.92′ W long.

e. Klamath Control Zone: The ocean area at the Klamath River mouth bounded on the north by 41°38′48″ N lat. (approximately 6 nautical miles north of the Klamath River mouth); on the west by 124°23′00″ W long. (approximately 12 nautical miles off shore); and, on the south by 41°26′48″ N lat. (approximately 6 nautical miles south of the Klamath River mouth).

C.5. Inseason Management

Regulatory modifications may become necessary inseason to meet preseason management objectives such as quotas, harvest guidelines, and season duration. In addition to standard inseason actions or modifications already noted under the season description, the following inseason guidance applies:

a. Actions could include modifications to bag limits, or days open to fishing, and extensions or reductions in areas open to fishing.

b. Coho may be transferred inseason among recreational subareas north of Cape Falcon to help meet the recreational season duration objectives (for each subarea) after conferring with representatives of the affected ports and the Council's SAS recreational representatives north of Cape Falcon, and if the transfer would not result in exceeding preseason impact expectations on any stocks.

c. Chinook and coho may be transferred between the recreational and commercial fisheries north of Cape Falcon if there is agreement among the representatives of the SAS, and if the transfer would not result in exceeding preseason impact expectations on any stocks.

d. Fishery managers may consider inseason action modifying regulations restricting retention of unmarked (adipose fin intact) coho. To remain consistent with preseason expectations, any inseason action shall consider, if significant, the difference between observed and preseason forecasted (adipose-clipped) mark rates. Such a consideration may also include a change in bag limit of two salmon, no more than one of which may be a coho.

e. Marked coho remaining from the Cape Falcon to Humbug Mt. recreational mark-selective coho quota may be transferred inseason to the Cape Falcon to Humbug Mt. non-mark-selective recreational fishery if the transfer would not result in exceeding preseason impact expectations on any stocks.

f. NMFS may by inseason action close recreational fisheries between May 1 and June 15, 2020 in the Fort Bragg, San Francisco, and Monterey subareas on the recommendation of the CDFW. The recommendation to close would be informed by an evaluation of actions or orders enacted by jurisdictions in these subareas to address public health concerns that would make access to the ocean salmon recreational fishery impracticable (e.g., restrictions on activities or closure of harbors, launch ramps and other forms of access). If NMFS closes these subareas May 1-15, May 16-31, June 1-15, or an additive combination of these specific date ranges in succession; NMFS may by inseason action extend the season in the California KMZ beyond August 9 not to exceed August 31 if the STT determines that such opening would not increase impacts to stocks in the FMP beyond those described in Table 5 of Pre-III for 2020, and would otherwise meet the objectives described in that table, including but not limited to 50/50 harvest sharing with the Klamath River Tribes (Yurok and Hoopa Valley Tribe).

g. NMFS may close fisheries through inseason action on the recommendation of the affected state(s) of Washington, Oregon or California where the recommendation to close is informed by an evaluation of actions or orders promulgated or issued by jurisdictions in these areas to address public health concerns concluding that these actions would likely make access to the fishery impracticable (e.g., restrictions on activities or closure of harbors, launch ramps and other forms of access) or would make information essential to manage and implement the fishery unavailable. NMFS should open fisheries closed on this basis through inseason action upon notice from the affected State(s) that said actions or orders making access to the fishery impracticable have been lifted and information essential to manage and implement the fishery would be available.

C.6. Additional Seasons in State Territorial Waters

Consistent with Council management objectives, the States of Washington, Oregon, and California may establish limited seasons in state waters. Check state regulations for details.

Section 3. Treaty Indian Management Measures for 2020 Ocean Salmon Fisheries

Parts A, B, and C of this section contain requirements that must be followed for lawful participation in the fishery.

A. Season Descriptions

May 1 through the earlier of June 30 or 17,500 Chinook quota.

All salmon may be retained except coho. If the Chinook quota is exceeded, the excess will be deducted from the later all-salmon season (C.5). See size limit (B) and other restrictions (C).

July 1 through the earlier of September 15, or 17,500 Chinook quota, or 16,500 coho quota.

All Salmon. See size limit (B) and other restrictions (C).

B. Minimum Size (Inches)

Area (when open) | Chinook: Total length | Chinook: Head-off | Coho: Total length | Coho: Head-off | Coho: Pink
North of Cape Falcon | 24.0 | 18.0 | 16.0 | 12.0 | None.
Metric equivalents: 24.0 in = 61.0 cm, 18.0 in = 45.7 cm, 16.0 in = 40.6 cm, 12.0 in = 30.5 cm.

C. Requirements, Restrictions, and Exceptions

C.1. Tribe and Area Boundaries

All boundaries may be changed to include such other areas as may hereafter be authorized by a Federal court for that tribe's treaty fishery.

S'KLALLAM—Washington State Statistical Area 4B (defined to include those waters of Puget Sound easterly of a line projected from the Bonilla Point Light on Vancouver Island to the Tatoosh Island light, thence to the most westerly point on Cape Flattery and westerly of a line projected true north from the fishing boundary marker at the mouth of the Sekiu River [WAC 220-301-030]).

MAKAH—Washington State Statistical Area 4B and that portion of the fishery management area (FMA) north of 48°02′15″ N lat. (Norwegian Memorial) and east of 125°44′00″ W long.

QUILEUTE—A polygon commencing at Cape Alava, located at latitude 48°10′00″ north, longitude 124°43′56.9″ west; then proceeding west approximately forty nautical miles at that latitude to a northwestern point located at latitude 48°10′00″ north, longitude 125°44′00″ west; then proceeding in a southeasterly direction mirroring the coastline at a distance no farther than 40 nmi from the mainland Pacific coast shoreline at any line of latitude, to a southwestern point at latitude 47°31′42″ north, longitude 125°20′26″ west; then proceeding east along that line of latitude to the Pacific coast shoreline at latitude 47°31′42″ north, longitude 124°21′9.0″ west (per court order dated March 5, 2018, Federal District Court for the Western District of Washington).

HOH—That portion of the FMA between 47°54′18″ N lat. (Quillayute River) and 47°21′00″ N lat. (Quinault River) and east of 125°44′00″ W long.

QUINAULT—A polygon commencing at the Pacific coast shoreline near Destruction Island, located at latitude 47°40′06″ north, longitude 124°23′51.362″ west; then proceeding west approximately 30 nmi at that latitude to a northwestern point located at latitude 47°40′06″ north, longitude 125°08′30″ west; then proceeding in a southeasterly direction mirroring the coastline no farther than 30 nmi from the mainland Pacific coast shoreline at any line of latitude, to a southwestern point at latitude 46°53′18″ north, longitude 124°53′53″ west; then proceeding east along that line of latitude to the Pacific coast shoreline at latitude 46°53′18″ north, longitude 124°7′36.6″ west (per court order dated March 5, 2018, Federal District Court for the Western District of Washington).

C.2. Gear Restrictions

a. Single point, single shank, barbless hooks are required in all fisheries.

b. No more than eight fixed lines per boat.

c. No more than four hand held lines per person in the Makah area fishery (Washington State Statistical Area 4B and that portion of the FMA north of 48°02′15″ N lat. (Norwegian Memorial) and east of 125°44′00″ W long.).

C.3. Quotas

a. The quotas include troll catches by the S'Klallam and Makah Tribes in Washington State Statistical Area 4B from May 1 through September 15.

b. The Quileute Tribe will continue a ceremonial and subsistence fishery during the time frame of October 1 through October 15 in the same manner as in 2004-2015. Fish taken during this fishery are to be counted against treaty troll quotas established for the 2020 season (estimated harvest during the October ceremonial and subsistence fishery: 20 Chinook; 40 coho).

C.4. Area Closures

a. The area within a six nautical mile radius of the mouths of the Queets River (47°31′42″ N lat.) and the Hoh River (47°45′12″ N lat.) will be closed to commercial fishing.

b. A closure within two nautical miles of the mouth of the Quinault River (47°21′00″ N lat.) may be enacted by the Quinault Nation and/or the State of Washington and will not adversely affect the Secretary of Commerce's management regime.

C.5. Inseason Management: In addition to standard inseason actions or modifications already noted under the season description, the following inseason guidance applies:

a. Chinook remaining from the May through June treaty-Indian ocean troll harvest guideline north of Cape Falcon may be transferred to the July through September harvest guideline on a fishery impact equivalent basis.

Section 4. Halibut Retention

Under the authority of the Northern Pacific Halibut Act, NMFS promulgated regulations governing the Pacific halibut fishery, which appear at 50 CFR part 300, subpart E. On March 13, 2020, NMFS published a final rule announcing the IPHC's regulations, including season dates, management measures, total allowable catch (TACs) for each IPHC management area including the U.S. West Coast (Area 2A) and Catch Sharing Plans for the U.S. waters off of Alaska (85 FR 14586). The Area 2A Catch Sharing Plan, in combination with the IPHC regulations, provides that vessels participating in the salmon troll fishery in Area 2A, which have obtained the appropriate IPHC license, may retain halibut caught incidentally during authorized periods in conformance with provisions published with the annual salmon management measures. A salmon troller may participate in the halibut incidental catch fishery during the salmon troll season or in the directed commercial fishery targeting halibut, but not both.

The following measures have been approved by the IPHC, and implemented by NMFS. During authorized periods, the operator of a vessel that has been issued an incidental halibut harvest license may retain Pacific halibut caught incidentally in Area 2A while trolling for salmon. Halibut retained must be no less than 32 inches (81.28 cm) in total length, measured from the tip of the lower jaw with the mouth closed to the extreme end of the middle of the tail, and must be landed with the head on.

License applications for incidental harvest must be obtained from the IPHC (phone: 206-634-1838). Applicants must apply prior to mid-March 2021 for 2021 permits (exact date to be set by the IPHC in early 2021). Incidental harvest is authorized only during April, May, and June of the 2020 troll seasons and after June 30 in 2020 if quota remains and if announced on the NMFS hotline (phone: 800-662-9825 or 800-526-6667). WDFW, ODFW, and CDFW will monitor landings. If the landings are projected to exceed the 44,899 pound preseason allocation or the total Area 2A non-Indian commercial halibut allocation, NMFS will take inseason action to prohibit retention of halibut in the non-Indian salmon troll fishery.

May 1, 2020, until the end of the 2020 salmon troll season, and beginning April 1, 2021, until modified through insesason action or superseded by the 2021 management measures, license holders may land or possess no more than one Pacific halibut per each two Chinook, except one Pacific halibut may be possessed or landed without meeting the ratio requirement, and no more than 35 halibut may be possessed or landed per trip. Pacific halibut retained must be no less than 32 inches in total length (with head on). IPHC license holders must comply with all applicable IPHC regulations.

Incidental Pacific halibut catch regulations in the commercial salmon troll fishery adopted for 2020, prior to any 2020 inseason action, will be in effect when incidental Pacific halibut retention opens on April 1, 2021, unless otherwise modified by inseason action at the March 2021 Council meeting.

NMFS and the Council request that salmon trollers voluntarily avoid a “C-shaped” YRCA (also known as the Salmon Troll YRCA) in order to protect yelloweye rockfish. Coordinates for the Salmon Troll YRCA are defined at 50 CFR 660.70(a) in the North Coast subarea (Washington marine area 3). See Section 1.C.7 in this document for the coordinates.

Section 5. Geographical Landmarks

Wherever the words “nautical miles off shore” are used in this document, the distance is measured from the baseline from which the territorial sea is measured.

Geographical landmarks referenced in this document are at the following locations:

Cape Flattery, WA 48°23′00″ N lat.

Cape Alava, WA 48°10′00″ N lat.

Queets River, WA 47°31′42″ N lat.

Leadbetter Point, WA 46°38′10″ N lat.

Cape Falcon, OR 45°46′00″ N lat.

Florence South Jetty, OR 44°00′54″ N lat.

Humbug Mountain, OR 42°40′30″ N lat.

Oregon-California border 42°00′00″ N lat.

Humboldt South Jetty, CA 40°45′53″ N lat.

Horse Mountain, CA 40°05′00″ N lat.

Point Arena, CA 38°57′30″ N lat.

Point Reyes, CA 37°59′44″ N lat.

Point San Pedro, CA 37°35′40″ N lat.

Pigeon Point, CA 37°11′00″ N lat.

Point Sur, CA 36°18′00″ N lat.

Point Conception, CA 34°27′00″ N lat.

Section 6. Inseason Notice Procedures

Notice of inseason management actions will be provided by a telephone hotline administered by the West Coast Region, NMFS, 800-662-9825 or 206-526-6667, and by USCG Notice to Mariners broadcasts. These broadcasts are announced on Channel 16 VHF-FM and 2182 KHz at frequent intervals. The announcements designate the channel or frequency over which the Notice to Mariners will be immediately broadcast. Inseason actions will also be published in the Federal Register as soon as practicable. Since provisions of these management measures may be altered by inseason actions, fishermen should monitor either the telephone hotline or USCG broadcasts for current information for the area in which they are fishing.

Classification

This final rule is necessary for conservation and management of Pacific coast salmon stocks and is consistent with the MSA and other applicable law. These regulations are being promulgated under the authority of 16 U.S.C. 1855(d) and 16 U.S.C. 773(c).

This final rule has been determined to be not significant for purposes of Executive Order 12866.

The Assistant Administrator for Fisheries finds good cause under 5 U.S.C. 553(b)(B), to waive the requirement for prior notice and opportunity for public comment, as such procedures would be impracticable and contrary to the public interest.

The annual salmon management cycle traditionally begins May 1 and continues through April 30 of the following year. May 1 was chosen because the pre-May harvests constitute a relatively small portion of the annual catch. The time frame of the preseason process for determining the annual modifications to ocean salmon fishery management measures depends on when the pertinent biological data are available. Salmon stocks are managed to meet annual spawning escapement goals or specific exploitation rates. Achieving either of these objectives requires designing management measures that are appropriate for the ocean abundance predicted for that year. These pre-season abundance forecasts, which are derived from previous years' observed spawning escapement, vary substantially from year to year, and are not available until January or February because spawning escapement continues through the fall.

The preseason planning and public review process associated with developing Council recommendations is initiated in February as soon as the forecast information becomes available. The public planning process requires coordination of management actions of four states, numerous Indian tribes, and the Federal Government, all of which have management authority over the stocks. This complex process includes the affected user groups, as well as the general public. The process is compressed into a two-month period culminating with the April Council meeting at which the Council adopts a recommendation that is forwarded to NMFS for review, approval, and implementation of fishing regulations typically effective on May 1. For 2020, even with the waiver of notice and comment, NMFS does not expect the rule to be effective until May 6 to accommodate the completion of the necessary regulatory process to review, approve, and implement these fishing regulations. Providing opportunity for prior notice and public comments on the Council's recommended measures through a proposed and final rulemaking process would require 30 to 60 days in addition to the two-month period required for development of the regulations. Delaying implementation of annual fishing regulations, which are based on the current stock abundance projections, for an additional 60 days would require that fishing regulations for May and June be set in the previous year, without the benefit of information regarding current stock abundance. For the 2020 fishing regulations, the current stock abundance was not available to the Council until February. In addition, information related to northern fisheries and stock status in Alaska and Canada which is important to assessing the amount of available salmon in southern U.S. ocean fisheries is not available until mid- to late-March. Because a substantial amount of fishing normally occurs during May and June, managing the fishery with measures developed using the prior year's data could have significant adverse effects on the managed stocks, including ESA-listed stocks. Although salmon fisheries that open prior to May are managed under measures developed the previous year, as modified by the Council at its March and April meetings, relatively little harvest occurs during that period (e.g., on average, less than 5 percent of commercial and recreational harvest occurred prior to May 1 during the years 2001 through 2017). Allowing the much more substantial harvest levels normally associated with the May and June salmon seasons to be promulgated under the prior year's regulations would impair NMFS' ability to protect weak and ESA-listed salmon stocks, and to provide harvest opportunity where appropriate. The choice of May 1 as the beginning of the regulatory season balances the need to gather and analyze the data needed to meet the management objectives of the Salmon FMP and the need to manage the fishery using the best available scientific information.

If the 2020 measures are not in place on May 6, salmon fisheries will not open as scheduled. This would result in lost fishing opportunity, negative economic impacts, and confusion for the public as the state fisheries adopt concurrent regulations that conform to the Federal management measures.

Overall, the annual population dynamics of the various salmon stocks require managers to adjust the season structure of the West Coast salmon fisheries to both protect weaker stocks and provide access to stronger salmon stocks, particularly hatchery produced fish. Failure to implement these measures immediately could compromise the status of certain stocks, or result in foregone opportunity to harvest stocks whose abundance has increased relative to the previous year thereby undermining the purpose of this agency action.

In addition, these measures were developed with significant public input. Public comment was received and considered by the Council and NMFS throughout the process of developing these management measures. As described above, the Council took comment at its March and April meetings, and heard summaries of comments received at public meetings held between the March and April meetings for each of the coastal states. NMFS also invited comments in a notice published prior to the March Council meeting, and considered comments received by the Council through its representative on the Council.

Based upon the above-described need to have these measures effective on May 6 and the fact that there is limited time available to implement these new measures after the final Council meeting in April and before the commencement of the 2020 ocean salmon fishing year on May 6, NMFS has concluded it would be impracticable and contrary to the public interest to provide an opportunity for prior notice and public comment under 5 U.S.C. 553(b)(B).

The Assistant Administrator for Fisheries also finds that good cause exists under 5 U.S.C. 553(d)(3), to waive the 30-day delay in effectiveness of this final rule. As previously discussed, data were not available until February and management measures were not finalized until mid-April. These measures are essential to conserve threatened and endangered ocean salmon stocks as well as potentially overfished stocks, and to provide for harvest of more abundant stocks. Delaying the effectiveness of these measures by 30 days could compromise the ability of some stocks to attain their conservation objectives, preclude harvest opportunity, and negatively impact anticipated international, state, and tribal salmon fisheries, thereby undermining the purposes of this agency action and the requirements of the MSA.

To enhance the fishing industry's notification of these new measures, and to minimize the burden on the regulated community required to comply with the new regulations, NMFS is announcing the new measures over the telephone hotline used for inseason management actions and is posting the regulations on its West Coast Region website (www.fisheries.noaa.gov/region/west-coast). NMFS is also advising the states of Washington, Oregon, and California on the new management measures. These states announce the seasons for applicable state and Federal fisheries through their own public notification systems.

Because prior notice and an opportunity for public comment are not required to be provided for this rule by 5 U.S.C. 553, or any other law, the analytical requirements of the Regulatory Flexibility Act, 5 U.S.C. 601 et seq., are not applicable. Accordingly, no Regulatory Flexibility Analysis is required for this rule and none has been prepared.

This action contains collection-of-information requirements subject to the Paperwork Reduction Act (PRA), and which have been approved by the Office of Management and Budget (OMB) under control number 0648-0433. The current information collection approval expires on August 30, 2020, and is in the process of being renewed (85 FR 17314, March 27, 2020). The public reporting burden for providing notifications if landing area restrictions cannot be met is estimated to average 15 minutes per response. This estimate includes the time for reviewing instructions, searching existing data sources, gathering and maintaining the data needed, and completing and reviewing the collection of information.

Notwithstanding any other provision of the law, no person is required to respond to, nor shall any person be subject to a penalty for failure to comply with, a collection of information subject to the requirements of the PRA, unless that collection of information displays a currently valid OMB control number.

NMFS has current ESA biological opinions that cover fishing under these regulations on all listed salmon species. NMFS provided guidance on the impact limits for all ESA-listed salmon and steelhead species, given annual abundance projections, in our annual guidance letter to the Council dated February 27, 2020. The management measures for 2020 are consistent with the biological opinions. The Council's recommended management measures therefore have been determined not likely to jeopardize the continued existence of any listed salmon species which may be affected by Council fisheries or adversely modify critical habitat. In some cases, the recommended measures are more restrictive than necessary for ESA compliance.

NMFS consulted on the effects of the ocean salmon fisheries on the ESA-listed SRKW DPS in 2009. As discussed above, NMFS reinitiated consultation on the effects of the ocean salmon fisheries on SRKW on April 12, 2019. NMFS has assessed the potential impacts of the 2020 management measures to SRKW in a biological opinion, and has made a determination under ESA section 7(a)(2) that the 2020 fisheries are not likely to jeopardize the continued existence of the SRKW DPS or destroy or adversely modify its designated critical or proposed habitat.

This final rule was developed after meaningful collaboration with the affected tribes. The tribal representative on the Council made the motion for the regulations that apply to the tribal fisheries.

Authority: 16 U.S.C. 773-773k; 1801 et seq.

Dated: May 5, 2020.
Samuel D. Rauch III,
Deputy Assistant Administrator for Regulatory Programs, National Marine Fisheries Service.

[FR Doc. 2020-09903 Filed 5-6-20; 8:45 am]

BILLING CODE 3510-22-P